DEPARTMENT OF VETERANS AFFAIRS

Advisory Committee on the Readjustment of Veterans, Notice of Meeting

The Department of Veterans Affairs (VA) gives notice under the Federal Advisory Committee Act, 5 U.S.C. Ch. 10., that the Advisory Committee on the Readjustment of Veterans will meet in-person on October 21, 2025-October 22, 2025. The sessions will begin and end as follows:

Dates | Times | Locations | Open session
October 21, 2025 | 8:00 a.m. to 4:30 p.m. Central Daylight Time (CDT) | Tulsa Vet Center, E 81st St. #200, Tulsa, OK 74137 | No.
October 22, 2025 | 8:00 a.m. to 4:30 p.m. CDT | Muscogee Creek Nation Veterans Office, 1006 Bear Ln., Okmulgee, OK 74447 | Yes.

The meeting sessions are open to the public, except during the time the Committee is participating in focus group discussions or conducting tours of VA facilities. Tours of VA facilities, clinical discussions and personal testimonies are closed to protect Veterans' privacy and personal information, in accordance with 5 U.S.C 552b(c)(6).

The purpose of the Committee is to advise the VA regarding the provision by VA of benefits and services to assist Veterans in the readjustment to civilian life. The Committee, comprised of 13 subject matter experts, advises the Secretary through the VA Readjustment Counseling Service. In carrying out this duty, the Committee shall take into account the needs of Veterans who served in combat theaters of operation.

On October 21, 2025, and October 22, 2025, the Committee will meet to assemble, review, and assess information relating to the needs of Veterans readjusting to civilian life and the effectiveness of VA services in assisting Veterans in that readjustment. On October 21, 2025, the meeting will take place at the Tulsa Vet Center, located at 6130 E 81st Street, Suite 200, Tulsa, Oklahoma, 74137, and will be closed to the public. The meeting will include a tour of the clinical space, and the duration of the meeting, including clinical discussions and personal testimonies, will take place on-site at the Tulsa Vet Center. Tours of VA facilities, clinical discussions, and personal testimonies are closed to protect the Veterans' privacy in accordance with 5 U.S.C 552b(c)(6).

On October 22, 2025, the meeting will convene at the Muscogee Creek Nation Veterans Office, located at 1006 Bear Lane, Okmulgee, Oklahoma, 74447, and will be open to the public. The agenda will consist of presentations and discussions with Muscogee Nation leadership, Native Veterans, representatives from the local VA Medical Center, the Oklahoma Governor's Challenge, as well as a committee discussion and public comment.

Time will be allotted for the public to provide comments starting at 4:00 p.m. CDT and ending no later than 4:30 p.m. CDT on October 22, 2025. The comment period may end sooner if no comments are presented or they are exhausted before the end time. Individuals interested in providing comments during the public comment period are allowed no more than three minutes for their statements. Additionally, the Committee will accept written comments from interested parties on issues outlined in the meeting agenda or other issues regarding the readjustment of Veterans. Parties should contact Mr. Joshua Mathis via email at Joshua.Mathis@va.gov or by mail at Department of Veterans Affairs, Readjustment Counseling Service (10RCS), 810 Vermont Avenue, Washington, DC 20420.

Any member of the public seeking additional information should contact Mr. Mathis at the email address noted above.

Dated: September 24, 2025.
Jelessa M. Burney,
Federal Advisory Committee Management Officer.

[FR Doc. 2025-18754 Filed 9-25-25; 8:45 am]

BILLING CODE P